Title 3—

The President

Proclamation 10984 of October 17, 2025

Adjusting Imports of Medium- and Heavy-Duty Vehicles, Medium- and Heavy-Duty Vehicle Parts, and Buses Into the United States

By the President of the United States of America

A Proclamation

1. Three weeks ago, the Secretary of Commerce (Secretary) transmitted to me a report on his investigation into the effects of imports of medium- and heavy-duty vehicles (MHDVs) (such as trucks), medium- and heavy-duty vehicle parts (MHDVPs), and buses on the national security of the United States under section 232 of the Trade Expansion Act of 1962, as amended, 19 U.S.C. 1862 (section 232). Based on the facts considered in that investigation, the Secretary found and advised me of his opinion that MHDVs, certain MHDVPs, and buses are being imported into the United States in such quantities and under such circumstances as to threaten to impair the national security of the United States and provided recommendations for action under section 232 to adjust the imports of MHDVs, certain MHDVPs, and buses so that such imports will not threaten to impair the national security of the United States.

2. The Secretary found that MHDVs are essential to United States national security. MHDVs and MHDVPs play a vital role in sustaining national security by enabling the Department of War to maintain military readiness. They do so by enabling the transport of personnel, weapons systems, ground defense vehicles, and critical supplies. In addition to aiding critical ground mobility, combat support, and logistics operations throughout all branches of the military, MHDVs and MHDVPs support emergency response across medical, law enforcement, and disaster relief efforts by providing mobile coordination, evacuation, and field-operations capabilities. Beyond crisis scenarios, MHDVs are indispensable to the continuity of American critical infrastructure and economic stability, moving over 70 percent of the Nation's freight by weight, including essential goods like food, fuel, and medical supplies.

3. The Secretary also found that import penetration from foreign assemblers of MHDVs is substantial and growing. From the 1950s through the 1990s, the United States was an undisputed leader in MHDV manufacturing, with iconic American brands like Ford, General Motors, Chrysler, and others producing nearly all MHDVs domestically. Offshoring of MHDV manufacturing, enabled by foreign industrial practices and other policies, has resulted in an import penetration level of 43 percent of Class 4 through 8 MHDVs sold on the United States market. The United States suffers 50 percent import penetration in Class 8 MHDVs—the heaviest-duty trucks. American companies continue to shift production outside the United States because of favorable dynamics for offshoring.

4. Further, the Secretary found that the United States relies on foreign suppliers for several important categories of MHDVPs. The domestic truck industry is dependent on engines, batteries, transmission shafts, castings, forgings, and other MHDVPs at a level that creates national security vulnerabilities. The supply chain for MHDVPs is much less diversified than for domestic passenger vehicles and light trucks, with significantly fewer United States producers of MHDVPs. Without a secure domestic supply chain for critical MHDVPs, a disruption of imports could strain the ability to execute national defense missions and critical infrastructure requirements, such as transporting personnel, weapons, or essential supplies in a conflict or an emergency.

5. The Secretary also found that there is significant overlap in the components, materials, and manufacturing capacity between the MHDV industry and the bus industry, including because many MHDVPs are used as components in buses. The Secretary noted that buses are vital for United States national security because they directly support, among other things, United States military troop movements, Government disaster response and evacuations, and basic operations in critical infrastructure sectors like energy, healthcare, and emergency services. Yet, as the Secretary found, the bus industry is at risk of becoming overly dependent on foreign supply chains, including MHDVP suppliers, and the United States trade balance in buses has worsened in recent years. The Secretary determined that this risk of dependency threatens the national security of the United States.

6. In light of these findings, the Secretary recommended a range of actions, including actions to adjust the imports of MHDVs, certain MHDVPs, and buses so that such imports will not threaten to impair the national security. For example, the Secretary recommended that I impose a 25 percent ad valorem duty on MHDVs and key MHDVPs and a 10 percent ad valorem duty on buses. The Secretary recommended that I conform the previously established section 232 automobile tariff program with any program I establish to adjust the imports of MHDVs and MHDVPs. The Secretary also recommended that the goal of the adjustment of MHDV imports should be a long-term stabilization of United States-produced MHDVs' market share at approximately 80 percent in order to achieve the adjustments' national security objective.

7. After considering the Secretary's report, the factors in section 232(d) (19 U.S.C. 1862(d)), and other relevant factors and information, I concur with the Secretary's finding that imports of MHDVs, certain MHDVPs, and buses threaten to impair the national security of the United States. In my judgment, and in light of the Secretary's report, the factors in section 232(d) (19 U.S.C. 1862(d)), and other relevant factors and information, I also determine that it is necessary and appropriate to impose a tariff system, as described below, to adjust imports of MHDVs, certain MHDVPs, and buses so that such imports will not threaten to impair the national security of the United States.

8. In my judgment, the actions in this proclamation will, among other things, strengthen supply chains; bolster industrial resilience; create high-quality jobs that will expand the skilled workforce in the United States; and increase domestic capacity utilization and United States-produced market share for MHDVs, certain MHDVPs, and buses. These actions will also encourage capital investment and drive innovation in the United States industries for MHDVs, MHDVPs, and buses, and will strengthen the ability of the military and national defense industry to domestically produce key defense systems and products that support critical ground mobility, combat, and logistics operations. Modernization and renewed investment will curb further erosion of the United States truck and bus industries and improve their efficiency, resource utilization, and product yield. These actions will adjust the imports of MHDVs, certain MHDVPs, and buses so that imports of these products do not threaten to impair the national security.

9. To ensure that the imposition of tariffs on MHDVs, certain MHDVPs, and buses in this proclamation is not circumvented or that the purpose of this action to eliminate the threat to the national security of the United States by imports of MHDVs, certain MHDVPs, and buses is not undermined, I also deem it necessary and appropriate to establish a process to identify and impose tariffs on additional MHDVPs, as further described below.

10. In addition, given the close connections and overlap between part suppliers for the automobile industry and for the medium- and heavy-duty vehicle industry, I determine that it is necessary and appropriate to conform certain aspects of the tariff system imposed in Proclamation 10908 of March 26, 2025 (Adjusting Imports of Automobiles and Automobile Parts Into the United States), as amended, with the tariff system imposed in this proclamation for MHDVs, certain MHDVPs, and buses. In my judgment, conforming the tariff system imposed in Proclamation 10908, as amended, to address the national security threat found in Proclamation 9888 of May 17, 2019 (Adjusting Imports of Automobiles and Automobile Parts Into the United States), as amended, with the tariff system imposed in this proclamation for MHDVs, certain MHDVPs, and buses will more effectively address the national security threat found in Proclamation 9888, as amended, and the national security threat found in this proclamation.

11. Section 232 authorizes the President to adjust the imports of an article and its derivatives that are being imported into the United States in such quantities or under such circumstances as to threaten to impair the national security so that such imports will not threaten to impair the national security.

12. Section 604 of the Trade Act of 1974, as amended (19 U.S.C. 2483) (section 604), authorizes the President to embody in the Harmonized Tariff Schedule of the United States (HTSUS) the substance of statutes affecting import treatment, and actions thereunder, including the removal, modification, continuance, or imposition of any rate of duty or other import restriction.

NOW, THEREFORE, I, DONALD J. TRUMP, President of the United States of America, by the authority vested in me by the Constitution and the laws of the United States of America, including section 232, the International Emergency Economic Powers Act (50 U.S.C. 1701 et seq.), section 604, and section 301 of title 3, United States Code, do hereby proclaim as follows:

(1) Except as otherwise provided in this proclamation, all imports of MHDVs and the MHDVPs specified in Annex I to this proclamation, or in any action designed to address the national security threat found in this proclamation, shall be subject to a 25 percent ad valorem duty rate, except for buses and other vehicles classified in HTSUS heading 8702, which shall be subject to a 10 percent ad valorem duty rate. These tariffs shall apply to goods entered for consumption or withdrawn from warehouse for consumption on or after 12:01 a.m. eastern daylight time on November 1, 2025, and shall continue in effect, unless such actions are expressly reduced, modified, or terminated. The above tariffs are in addition to any other duties, taxes, fees, exactions, and charges applicable to such products, except as otherwise specified herein.

(2) For MHDVs, except for buses and other vehicles classified in HTSUS heading 8702, that qualify for preferential tariff treatment under the United States-Mexico-Canada Agreement (USMCA), importers of such products may submit documentation to the Secretary identifying the amount of United States content in each model imported into the United States. The term “United States content” refers to the value of the MHDV attributable to United States-based activity supporting domestic production, as determined by the Secretary. Thereafter, the Secretary may approve imports of such MHDVs to be eligible to apply the ad valorem duty rate of 25 percent in clause (1) of this proclamation exclusively to the value of the non-United States content of the MHDV. The non-United States content of the MHDV shall be calculated by subtracting the value of the United States content in an MHDV from the total value of the MHDV.

(3) Imports of individual MHDVPs within the scope of the tariffs described in clause (1) of this proclamation that qualify for preferential tariff treatment under the USMCA shall not be subject to the additional ad valorem duty rate imposed under this proclamation until such time that the Secretary, in consultation with the Commissioner of U.S. Customs and Border Protection (CBP), establishes a process to apply the tariff exclusively to the value of the non-United States content of such MHDVPs and publishes a notice in the Federal Register. Imports of MHDV knock-down kits or equivalent parts compilations, as determined by CBP, shall continue to be subject to the additional ad valorem duty rate imposed under this proclamation regardless of USMCA preferential treatment qualification.

(4) I find that it is necessary to reduce duties assessed on MHDVPs accounting for 15 percent of the value of an MHDV assembled in the United States from 2025 through 2030. Accordingly:

(a) For MHDVs assembled in the United States, MHDV manufacturers shall be eligible to receive an import adjustment offset. An MHDV manufacturer may apply to the Secretary for an import adjustment offset amount equal to 3.75 percent of the aggregate value of all MHDVs assembled in the United States by that manufacturer, as determined annually by the Secretary, from November 1, 2025, through October 31, 2030.

(b) The percentage rate provided in subsection (a) of this clause reflects the total duty that would be owed when a 25 percent duty is applied to parts accounting for 15 percent of an MHDV's value.

(c) Only MHDVs that undergo final assembly in the United States are eligible to be included in this calculation. The manufacturer's import adjustment offset amount may be used only by importers of record authorized by that manufacturer.

(d) A manufacturer's import adjustment offset amount may be used only to offset tariff liability related to that manufacturer's MHDVP tariff liability under clauses (1), (7), or (12) of this proclamation.

(e) Consistent with the need to address the national security threat found in this proclamation, the Secretary shall establish a process for MHDV engine manufacturers equivalent to the process described in subsections (a) through (d) of this clause. Import adjustment offsets for these engine manufacturers shall be based on the aggregate value of MHDV engines assembled by that manufacturer in the United States and shall follow the same accrual percentage rate and United States assembly requirement as the import adjustment offsets for MHDV manufacturers specified in subsections (a) through (d) of this clause.

(f) If the Secretary finds that the import adjustment offset program for a particular product is inconsistent with addressing the threat to the national security found in this proclamation, the Secretary may publish in the Federal Register a notice that prospectively prohibits MHDV or MHDV engine manufacturers from using offset amounts for imports of those products.

(g) Imports of MHDV knock-down kits or other equivalent parts compilations, as determined by CBP, shall not be eligible for import adjustment offsets of the sort specified in this clause.

(5) The Secretary shall take all necessary steps to implement the import adjustment offset program outlined in clause (4) of this proclamation, including supplying CBP with the information necessary for CBP to administer and implement the import adjustment offset, such as importer of record number(s) for the importer(s) eligible to use each offset amount and the approved import adjustment offset amount. CBP shall confer the approved offset amount to the approved importer(s) of record using processes and mechanisms consistent with CBP's operational framework and tariff administration procedures, including by applying the offset against current tariff obligations due at the time of entry, or by using other lawful methods.

(6) If CBP determines that the declared value of non-United States content of imports under clause (2) of this proclamation is inaccurate due to an overstatement of United States content, the 25 percent tariff specified in clause (1) of this proclamation shall apply to the full value of the MHDV, regardless of the actual United States content. In addition, the 25 percent tariff specified in clause (1) of this proclamation shall be applied to the full value of all MHDVs of the same model imported by the same importer or responsible party from the date of the inaccurate declaration until compliance is verified by CBP. This clause does not apply to or otherwise affect any other applicable duties, taxes, fees, exactions, or charges.

(7) The Secretary shall establish a process for including additional MHDVPs within the scope of the tariffs established in clause (1) of this proclamation. The Secretary may add MHDVPs within the scope of the tariffs established in clause (1) of this proclamation if—after considering the information from the Secretary's monitoring of imports of MHDVs, MHDVPs, and buses, as well as any factor the Secretary deems appropriate—the Secretary determines that inclusion of the import will reduce or eliminate the national security threat found in this proclamation. Appropriate factors may include the factors in section 232(d) (19 U.S.C. 1862(d)) and whether the imports of MHDVs, MHDVPs, and buses have increased in a manner that threatens to impair the national security of the United States or otherwise undermines the objectives set forth in this proclamation. The process the Secretary establishes may include provisions for the receipt of information and requests for additions of specific MHDVPs from domestic producers of MHDVPs or other interested entities or individuals.

(8) Any product subject to tariffs pursuant to this proclamation, except those eligible for admission under “domestic status” as defined in 19 CFR 146.43, that is admitted into a United States foreign trade zone on or after the effective date of this proclamation, as set forth in clause (1) of this proclamation, must be admitted in “privileged foreign status” as defined in 19 CFR 146.41, and will be subject upon entry for consumption to any duties related to the classification under the applicable HTSUS subheading.

(9) The application of multiple tariffs (stacking) for imports of MHDVs, MHDVPs, and buses subject to this proclamation shall follow the same rules for stacking for imports subject to Proclamation 10908, as amended. For purposes of Executive Order 14289 of April 29, 2025 (Addressing Certain Tariffs on Imported Articles), as amended, a product remains “subject to” this proclamation or Proclamation 10908, as amended, even if the tariff imposed by these two proclamations is not owed and payable due to compliance with USMCA rules of origin, use of an offset adjustment, or tariff reductions effected through the implementation of agreements on trade and security.

(10) The tariffs imposed under clauses (1) through (3) of this proclamation shall not apply to MHDVs or buses and other vehicles classified in HTSUS heading 8702 that were manufactured in a year at least 25 years prior to the date of entry of those MHDVs or buses.

(11) Clause (1) of Proclamation 10925 of April 29, 2025 (Amendments to Adjusting Imports of Automobiles and Automobile Parts Into the United States), is revised to read as follows:

“(1) To more effectively eliminate the threat to impair national security posed by imports of automobiles and certain automobile parts, I find that it is necessary to reduce duties assessed on automobile parts accounting for 15 percent of the value of an automobile assembled in the United States from 2025 through 2030. Accordingly:

(a) Automobile manufacturers may apply to the Secretary for an import adjustment offset amount equal to 3.75 percent of the aggregate Manufacturer's Suggested Retail Price (MSRP) value of all automobiles assembled in the United States by the manufacturer, as determined annually by the Secretary, from April 5, 2025, through April 30, 2030.

(b) The percentage rate provided in subsection (a) of this clause reflects the total duty that would be owed when a 25 percent duty is applied to parts accounting for 15 percent of an automobile's value.

(c) The Secretary shall establish an import adjustment offset equivalent to that specified in subsections (a) and (b) of this clause for automobile engine manufacturers. Offset accrual for these engine manufacturers shall be based on the aggregate value of automobile engines assembled in the United States by the engine manufacturer and shall follow the same accrual percentage rate and United States assembly restriction as the offset program for automobile manufacturers specified in subsection (a) of this clause.

(d) Only automobiles that undergo final assembly in the United States are eligible to be included in this calculation. The manufacturer's import adjustment offset amount may be used only by importers of record authorized by that manufacturer.

(e) A manufacturer's import adjustment offset amount may be used only to offset tariff liability related to that manufacturer's automobile parts tariff liability under Proclamation 10908, as amended, or under clause (12) of the Proclamation of October 17, 2025 (Adjusting Imports of Medium- and Heavy-Duty Vehicles, Medium- and Heavy-Duty Vehicle Parts, and Buses Into the United States).

(f) If the Secretary finds that the offset program is not fulfilling the purposes of Proclamation 10908, as amended, for particular products, the Secretary may publish in the Federal Register a notice that prospectively prohibits automobile or automobile engine manufacturers from using their offset amount for imports of those products.

(g) Imports of automobile knock-down kits or other equivalent parts compilations, as determined by CBP, shall not be eligible for import adjustment offsets.”.

(12) An importer of record may declare an automobile part or MHDVP as subject to the automobile parts tariff pursuant to Proclamation 10908, as amended, or to the MHDVP tariff pursuant to this proclamation. For an automobile or MHDV part to be eligible for this treatment, the part must meet the following conditions:

(a) the part cannot be presently subject to the tariffs imposed pursuant to Proclamation 10908, as amended, or this proclamation;

(b) the part cannot be classifiable in Chapters 72, 73, or 76 of the HTSUS; and

(c) the part must be used for automobile- or MHDV-related production or repair activity in the United States, as attested to by certification from the importer of record.

(13) To more effectively address the national security threats found in Proclamation 9704 of March 8, 2018 (Adjusting Imports of Aluminum Into the United States), as amended; Proclamation 9705 of March 8, 2018 (Adjusting Imports of Steel Into the United States); Proclamation 9888, as amended; and this proclamation, I deem it necessary and appropriate to allow modification of tariffs imposed under Proclamation 9704, as amended, and Proclamation 9705, as amended, based on certain increased commitments of certain steel or aluminum products that support United States production capacity of key products, including United States automobiles and MHDVs. Accordingly, the Secretary is authorized to reduce tariffs owed under Proclamation 9704, as amended, and Proclamation 9705, as amended, by up to half the applicable rate for aluminum or steel producers that operate production facilities in Canada or Mexico and supply United States automobile or MHDV manufacturers. Such adjustments shall be limited to quantities of aluminum or steel equal to newly committed United States production capacity, as determined by the Secretary. In no cases shall the adjusted rate under Proclamation 9704, as amended, and Proclamation 9705, as amended, be lower than 25 percent. Rate adjustments shall also be limited to imports of aluminum and steel that qualify for preferential tariff treatment under the USMCA and that were smelted and cast or melted and poured in Canada or Mexico. Any adjustment by the Secretary shall be consistent with the need to address the national security threats I have found under section 232, including in Proclamation 9704, as amended; Proclamation 9705, as amended; Proclamation 9888, as amended; and this proclamation.

(14) The Secretary shall continue to monitor imports of MHDVs, certain MHDVPs, and buses. The Secretary also shall, from time to time, in consultation with any senior executive branch officials the Secretary deems appropriate, review the status of such imports with respect to the national security. The Secretary shall inform the President of any circumstances that, in the Secretary's opinion, might indicate the need for further action by the President under section 232. The Secretary shall also inform the President of any circumstance that, in the Secretary's opinion, might indicate that the increase in duty rate provided for in this proclamation is no longer necessary.

(15) As of the effective date of this proclamation, only manufacturing drawback claims made in accordance with subsections (a) and (b) of section 313 of the Tariff Act of 1930, as amended, 19 U.S.C. 1313(a)-(b), and no other drawback, shall be available with respect to the duties imposed on MHDVPs pursuant to this proclamation and on automobile parts pursuant to Proclamation 10908, as amended. The Secretary may adjust a company's offset accrual amount as necessary to avoid awarding excessive offset accrual benefits for United States-assembled vehicles production that receives drawback benefits upon exportation.

(16) The Secretary, in consultation with the Chair of the United States International Trade Commission and the Commissioner of CBP, shall determine the modifications necessary to the HTSUS to effectuate this proclamation and shall make such modifications to the HTSUS through notice in the Federal Register.

(17) To the extent consistent with applicable law and the purpose of this proclamation; Proclamation 9704, as amended; Proclamation 9705, as amended; and Proclamation 10908, as amended, the Secretary and the Secretary of Homeland Security are directed and authorized to take all actions that are appropriate to implement and effectuate this proclamation and any actions contemplated by this proclamation; Proclamation 9704, as amended; Proclamation 9705, as amended; and Proclamation 10908, as amended, including, consistent with applicable law, the issuance of regulations, rules, guidance, and procedures and the temporary suspension or amendment of regulations, within their respective jurisdictions, and to employ all powers granted to the President under section 232. The Secretary and the Secretary of Homeland Security may, consistent with applicable law, including 3 U.S.C. 301, redelegate any of these functions within their respective departments. All executive departments and agencies shall take all appropriate measures to implement and effectuate this proclamation and Proclamation 10908, as amended.

(18) The Secretary may issue regulations and guidance consistent with this proclamation, including to address operational necessity.

(19) CBP may take any necessary or appropriate measures to administer the tariffs imposed by this proclamation.

(20) Any provision of previous proclamations and Executive Orders that is inconsistent with the actions taken in this proclamation is superseded to the extent of such inconsistency. If any provision of this proclamation or the application of any provision to any individual or circumstance is held to be invalid, the remainder of this proclamation and the application of its provisions to any other individuals or circumstances shall not be affected.

IN WITNESS WHEREOF, I have hereunto set my hand this seventeenth day of October, in the year of our Lord two thousand twenty-five, and of the Independence of the United States of America the two hundred and fiftieth.

Billing code 3395-F4-P

[FR Doc. 2025-19639

Filed 10-21-25; 11:15 am]

Billing code 7020-02-C